DEPARTMENT OF JUSTICE

Notice of Lodging of Consent Decree Under the Comprehensive Environmental Response, Compensation, and Liability Act of 1980, as Amended

Notice is hereby given that on February 17, 2010, a proposed Consent Decree in United States of America v. ITT Corporation, Civil Action No. 4:10-cv-00053-SPM-WCS, was lodged with the United States District Court for the Northern District of Florida, Tallahassee Division.

In this action, the United States, on behalf of the U.S. Environmental Protection Agency (“EPA”), sought injunctive relief and recovery of response costs pursuant to Sections 106 and 107 of the Comprehensive Environmental Response, Compensation, and Liability Act of 1980 (CERCLA), 42 U.S.C. 9606 and 9607, with respect to the ITT Thompson Industries Superfund Site located at 800 Livingston Street (State Road 145), Madison, Florida. ITT Corporation formerly operated a manufacturing facility at the Site, where soil, sediment, and water have been contaminated with hazardous substances such as volatile organic compounds and heavy metals.

The proposed Consent Decree requires ITT Corporation to conduct the remedial action as provided in EPA's Record of Decision, maintain a performance guarantee in the amount of $2.2 million, reimburse EPA $23,308.01 in past response costs, and pay all future response costs. The remedial action consists of disposal of contaminated soil and sediment, bioremediation of contaminated groundwater, institutional controls to limit Site uses until cleanup goals are reached, and five-year reviews of the remedy.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States of America v. ITT Corporation, D.J. Ref. 90-11-3-09718. Commenters may request an opportunity for a public meeting in the affected area, in accordance with Section 7003(d) of RCRA, 42 U.S.C. 6973(d).

During the public comment period, the proposed Consent Decree may be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $110.50 (inclusive of appendices) or $13.75 (exclusive of appendices) (25 cents per page reproduction cost) payable to the U.S. Treasury or, if by e-mail or fax, forward a check in that amount to the Consent Decree Library at the stated address.

Maureen Katz,
Assistant Chief, Environmental Enforcement Section, Environment and Natural Resources Division.

[FR Doc. 2010-3549 Filed 2-23-10; 8:45 am]

BILLING CODE 4410-15-P